DEPARTMENT OF LABOR

Employment and Training Administration

[TA-W-53,666]

Falcon Products, Canton, MS; Notice of Termination of Investigation

Pursuant to section 221 of the Trade Act of 1974, as amended, an investigation was initiated on November 28, 2003 in response to a worker petition filed by a company official on behalf of workers at Falcon Products, Canton, Mississippi.

The petitioner has requested that the petition be withdrawn. Consequently, further investigation would serve no purpose, and the investigation has been terminated.

Signed at Washington, DC, this 6th day of January 2004.
Linda G. Poole,
Certifying Officer, Division of Trade Adjustment Assistance.

[FR Doc. 04-992 Filed 1-15-04; 8:45 am]

BILLING CODE 4510-30-P